DEPARTMENT OF LABOR

Occupational Safety and Health Administration

29 CFR Parts 1910, 1915, 1917, 1918, 1926, and 1928

[Docket No. OSHA-2021-0007]

RIN 1218-AD42

COVID-19 Vaccination and Testing; Emergency Temporary Standard

Correction

In rule document 2021-26268, appearing on page 68560 in the issue of Friday, December 3, 2021, make the following correction:

On page 68560, in the first column, in the DATES section, on the third and fourth lines, “86 FR 6140” should read, “86 FR 61402”.

[FR Doc. C1-2021-26268 Filed 12-7-21; 8:45 am]

BILLING CODE 0099-10-D